NUCLEAR REGULATORY COMMISSION

[Docket No. 50-29-OLA; ASLBP No. 04-831-01-OLA]

Yankee Atomic Electric Company; Establishment of Atomic Safety and Licensing Board

Pursuant to delegation by the Commission dated December 29, 1972, published in the Federal Register, 37 FR 28,710 (1972), and the Commission's regulations, see 10 CFR 2.104, 2.300, 2.303, 2.309, 2.311, 2.318, and 2.321, notice is hereby given that an Atomic Safety and Licensing Board is being established to preside over the following proceeding:

Yankee Atomic Electric Company, Yankee Nuclear Power Station, Franklin County, Massachusetts (Operating License Amendment)

This proceeding concerns a request for hearing submitted on August 20, 2004, by the Citizens Awareness Network, Inc., in response to a June 14, 2004 notice of opportunity for hearing (69 FR 34,696, 34,707 (June 22, 2004)), regarding a November 24, 2003 request to amend the operating license of Yankee Atomic Electric Company's Yankee Nuclear Power Station in Rowe, Massachusetts. The new license condition would document the date of NRC approval of the license termination plan (LTP) for the facility and provide criteria to determine the need for NRC approval of changes to the approved LTP.

The Board is comprised of the following administrative judges:

Alan S. Rosenthal, Chair, Atomic Safety and Licensing Board Panel, U.S. Nuclear Regulatory Commission, Washington, DC 20555-0001.

Dr. Richard F. Cole, Atomic Safety and Licensing Board Panel, U.S. Nuclear Regulatory Commission, Washington, DC 20555-0001.

Dr. Charles N. Kelber, Atomic Safety and Licensing Board Panel, U.S. Nuclear Regulatory Commission, Washington, DC 20555-0001.

All correspondence, documents, and other materials shall be filed with the administrative judges in accordance with 10 CFR 2.302.

Issued at Rockville, Maryland, this 19th day of October 2004.
G. Paul Bollwerk, III,
Chief Administrative Judge, Atomic Safety and Licensing Board Panel.

[FR Doc. 04-23789 Filed 10-24-04; 8:45 am]

BILLING CODE 7590-01-P